DEPARTMENT OF THE INTERIOR

Geological Survey

[GX23 EN05ESB0500; OMB Control Number 1028-0096]

Agency Information Collection Activities; 1028-0096 60-Day Regional Climate Adaptation Science Centers (CASCs)

AGENCY: U.S. Geological Survey, Interior.

ACTION: Notice of information collection; request for comment.

SUMMARY: In accordance with the Paperwork Reduction Act (PRA) of 1995, the U.S. Geological Survey (USGS) is proposing to renew an information collection.

DATES: Interested persons are invited to submit comments on or before March 27, 2023.

ADDRESSES: Send your comments on this information collection request (ICR) by mail to U.S. Geological Survey, Information Collections Officer, 12201 Sunrise Valley Drive MS 159, Reston, VA 20192; or by email to gs-info_collections@usgs.gov. Please reference OMB Control Number 1028-0096 in the subject line of your comments.

FOR FURTHER INFORMATION CONTACT: To request additional information about this ICR, contact Doug Beard, Chief of the USGS National Climate Adaptation Science Center, by email at dbeard@usgs.gov or by telephone at 571-265-4623.

SUPPLEMENTARY INFORMATION: In accordance with the PRA of 1995 (PRA, 44 U.S.C. 3501 et seq.) and 5 CFR 1320.8(d)(1), all information collections require approval. We may not conduct or sponsor, nor are you required to respond to, a collection of information unless it displays a currently valid OMB control number.

As part of our continuing effort to reduce paperwork and respondent burdens, we invite the public and other Federal agencies to comment on new, proposed, revised, and continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How the agency might minimize the burden of the collection of information on those who are to respond, including through the use of appropriate automated, electronic, mechanical, or other technological collection techniques or other forms of information technology, e.g., permitting electronic submission of response.

Comments that you submit in response to this notice are a matter of public record. We will include or summarize each comment in our request to OMB to approve this ICR. Before including your address, phone number, email address, or other personally identifiable information (PII) in your comment, you should be aware that your entire comment—including your PII—may be made publicly available at any time. While you can ask us in your comment to withhold your PII from public review, we cannot guarantee that we will be able to do so.

Abstract: The USGS manages nine Regional CASCs. Each CASC is established through a cooperative agreement with a host institution. The host institution agreements are periodically re-competed, requiring collection of information from potential host institutions. In addition, this information collection addresses quarterly and annual reporting required of host institutions.

Title of Collection: Department of the Interior Regional Climate Adaptation Science Centers.

OMB Control Number: 1028-0096.

Form Number: N/A.

Type of Review: Extension of a currently approved collection.

Respondents/Affected Public: Institutions that may propose to serve as CASC host or partner institutions include state, local government, and tribal entities, including academic institutions. Existing host institutions are state academic institutions.

Total Estimated Number of Annual Respondents: The USGS expects to request proposals for a maximum of three CASCs in any year and to receive an average of five proposals per CASC request, for a total of fifteen proposals in any single year. The USGS expects to enter into hosting agreements with a minimum of nine CASC host institutions.

Total Estimated Number of Annual Responses: 63 Responses.

Estimated Completion Time per Response: Each proposal for CASC hosting is expected to take 200 hours to complete. The time required to complete quarterly and annual reports for any specific host cooperative agreement or research project agreement is expected to total 2.5 hours per report.

Total Estimated Number of Annual Burden Hours: 3,120 Hours.

Respondent's Obligation: Required to Obtain or Retain a Benefit.

Frequency of Collection: Information will be collected one time every five years (approximately) for each CASC to enable re-competition of CASC hosting agreements. In addition, host institutions are required to fill four quarterly financial statements and one annual progress report.

Total Estimated Annual Nonhour Burden Cost: There are no “non-hour cost” burdens associated with this collection of information.

An agency may not conduct or sponsor, nor is a person required to respond to, a collection of information unless it displays a currently valid OMB control number.

The authority for this action is the PRA of 1995 (44 U.S.C. 3501 et seq.).

Jeffrey M. Parrillo,
Departmental Information Collections Clearance Officer.

[FR Doc. 2023-00664 Filed 1-24-23; 8:45 am]

BILLING CODE 4334-63-P